DEPARTMENT OF ENERGY

Federal Energy Regulatory Commission

[Project No. 6281-041]

Five Bears Hydro, Inc. and Five Bears Hydro, LLC; Notice of Application for Transfer of License and Soliciting Comments, Motions to Intervene, and Protests

On March 24, 2017, Five Bears Hydro, Inc. (transferor) and Five Bears Hydro, LLC (transferee) filed an application for the transfer of license of the Five Bears Power Project No. 6281. The project is located on Ward Creek, a tributary to the Feather River in Plumas County, California. The project occupies land of the United States within the Plumas National Forest.

The transferor and transferee seek Commission approval to transfer the license for the Five Bears Power Project from transferor to the transferee.

Applicant's Contacts: Mr. Dan R. Skowronski, Esquire, Saul Ewing LLP, 500 E. Pratt Street, 8th Floor, Baltimore, MD 21202, Phone: 410-332-8675, Email: dskowronski@saul.com; Mr. Michael Hill, General Counsel, EDF Inc., 5404 Wisconsin Avenue., Suite 400, Chevy Chase, MD 20815, Phone: 240-744-8029, Email: michael.hill@edf-inc.com; Ms. Bethanie Haynes, Associate Counsel, EDF Inc., 5404 Wisconsin Avenue, Suite 400, Chevy Chase, MD 20815, Phone: 240-744-8018, Email: bethanie.haynes@edf-inc.com; and Mr. Joseph Sanchez, President and Secretary, Five Bears Hydro, Inc., 5404 Wisconsin Avenue, Suite 400, Chevy Chase, MD 20815, Phone: 240-744-8014, Email: joseph.sanchez@edf-inc.com.

FERC Contact: Patricia W. Gillis, (202) 502-8735, patricia.gillis@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-6281-041.

Dated: April 13, 2017.
Kimberly D. Bose,
Secretary.

[FR Doc. 2017-07996 Filed 4-19-17; 8:45 am]

BILLING CODE 6717-01-P